DEPARTMENT OF HEALTH AND HUMAN SERVICES

Meeting of the Advisory Committee on Minority Health

AGENCY: Department of Health and Human Services, Office of the Secretary, Office of Public Health and Science, Office of Minority Health.

ACTION: Notice of meeting.

SUMMARY: The Advisory Committee on Minority Health will meet to discuss racial and ethnic disparities in health, as well as other related issues. The meeting has been scheduled immediately prior to the Secretary's National Leadership Summit on Eliminating Racial and Ethnic Disparities in Health. The meeting is open to the public and will allow attendees of the Summit an opportunity to participate in the Advisory Committee on Minority Health's public comment period. This is a unique opportunity for the public to provide comments on barriers and strategies for increasing diversity in the health professions and on health issues along the US borders.

Public comments are limited to 3 minutes each. Written comments may be submitted in advance in addition to the oral comments. Comments should be faxed to Sheila P. Merriweather at the Office of Minority Health at least two business days prior to the meeting.

DATES: The Advisory Committee on Minority Health will meet on Tuesday, July 9, 2002 from 9:00 a.m. to 5:00 p.m., and Wednesday, July 10, 2000 from 9:00 a.m. to 12 noon. The public comment period will be held on Wednesday, July 10.

ADDRESSES: The meeting will be held at the Hilton Washington Hotel and Towers, 1919 Connecticut Avenue, NW., Washington, DC.

FOR FURTHER INFORMATION CONTACT: Ms. Sheila P. Merriweather, Office of Minority Health, Rockwall Building, 5515 Security Lane, Suite 1000, Rockville, MD 20852. Phone: 301-443-9923, Fax: 301-443-8280.

Dated: May 22, 2002.
Nathan Stinson, Jr.,
Deputy Assistant Secretary for Minority Health.

[FR Doc. 02-13864 Filed 6-3-02; 8:45 am]

BILLING CODE 4150-29-P